DEPARTMENT OF COMMERCE

National Oceanic and Atmospheric Administration

Agency Information Collection Activities; Submission to the Office of Management and Budget (OMB) for Review and Approval; Comment Request; Pacific Cod Trawl Cooperative Program

AGENCY: National Oceanic & Atmospheric Administration (NOAA), Commerce.

ACTION: Notice of information collection, request for comment.

SUMMARY: The Department of Commerce, in accordance with the Paperwork Reduction Act of 1995 (PRA), invites the general public and other Federal agencies to comment on continuing and revised information collections, which helps us assess the impact of our information collection requirements and minimize the public's reporting burden. The purpose of this notice is to allow for 60 days of public comment preceding submission of the collection to OMB.

DATES: To ensure consideration, comments regarding this proposed information collection must be received on or before September 16, 2025.

ADDRESSES: Interested persons are invited to submit written comments to Adrienne Thomas, NOAA PRA Officer, at NOAA.PRA@noaa.gov. Please reference OMB Control Number 0648-0811 in the subject line of your comments. All comments received are part of the public record and will generally be posted on https://www.regulations.gov without change. Do not submit Confidential Business Information or otherwise sensitive or protected information.

FOR FURTHER INFORMATION CONTACT: Requests for additional information or specific questions related to collection activities should be directed to Lis Henderson, National Marine Fisheries Service, by phone 907-586-7228, or by email at lis.henderson@noaa.gov.

SUPPLEMENTARY INFORMATION:

I. Abstract

The National Marine Fisheries Service (NMFS), Alaska Region requests a revision and extension of a currently approved information collection for the Pacific Cod Trawl Cooperative Program (PCTC Program) reporting requirements.

This information collection contains requirements for the PCTC Program and is necessary for NMFS to administer and monitor compliance with the management provisions of the PCTC Program. This information collection is required in PCTC Program regulations in Subpart J to part 679. The North Pacific Fishery Management Council (Council) recommended and NMFS implemented the PCTC Program under the authority of the Magnuson-Stevens Fishery Conservation and Management Act, 16 U.S.C. 1801 et seq.

The PCTC Program is a limited access privilege program to harvest Pacific cod (Gadus macrocephalus) in the Bering Sea and Aleutian Islands trawl catcher vessel (CV) sector. The program allocates Pacific cod harvest quota to qualifying License Limitation Program (LLP) license holders and qualifying processors and requires participants to form cooperatives to harvest the quota. The program establishes criteria for harvesters and processors in the Bering Sea and Aleutian Islands trawl CV sector to qualify for, receive Quota Share (QS), and transfer QS. Each year, program participants must join or form harvesting cooperatives in association with an eligible processor to harvest the annual harvest privilege of Pacific cod. NMFS issues a cooperative quota (CQ) to each cooperative based on the aggregate QS of the cooperative members and associated processors.

This collection contains ongoing information collection requirements submitted by participating harvesters and processors for the following forms: (1) Application for PCTC Program CQ, (2) Application for Inter-Cooperative Transfer of CQ, (3) Application for Transfer of PCTC Program QS for Processors, and (4) Notification of Intent to Process PCTC Program Pacific Cod. As part of this revision, NMFS is removing the following forms which are no longer needed: (1) Application for PCTC Program Quota Share (QS) and (2) Ninety-Day Transfer Window for Non-Exempt American Fisheries Act (AFA) License Limitation Program (LLP) holders.

Application for PCTC Program QS

The Application for PCTC Program QS will be removed as part of this revision. This form was used to establish initial allocations of PCTC Program QS for eligible harvesters and processors. The form was required at the start of the PCTC Program to collect basic information necessary to ensure that QS is assigned to the appropriate person(s) and to provide a process for resolving claims of legal landings that are contrary to the PCTC Program official record. The form was needed for initial applications to the PCTC Program, not subsequent years.

Application for PCTC Program CQ

Annually, each PCTC Program cooperative is required to submit an Application for PCTC Program CQ identifying catcher vessels that are eligible to harvest a portion of that cooperative's CQ. NMFS uses these applications to issue CQ permits, establish annual cooperative accounts for catch accounting purposes, and identify specific harvester vessels for each cooperative. As with other limited access privilege programs, the information received in this application is used to annually review ownership and control information for various QS holders to ensure that QS and CQ use caps are not exceeded.

Application for Inter-Cooperative Transfer of PCTC Program CQ

A cooperative in the PCTC Program may transfer all or part of its CQ to another cooperative for harvest subject to the limitations imposed by ownership and use caps. Annual CQ and associated PSC will be transferable between cooperatives using the Application for Inter-Cooperative Transfer of PCTC Program CQ. This application is necessary for NMFS to appropriately account for inter-cooperative transfers of CQ after annual CQ has been issued to PCTC Program cooperatives. NMFS uses this information to monitor transfers to ensure they do not exceed ownership or use caps for the fishery.

Application for Transfer of PCTC Program QS for Processors

The Application for Transfer of PCTC Program QS for Processors is used by a PCTC Program processor to request transfer to another eligible processor of a PCTC Program QS permit and any QS assigned to that permit or to request transfer of excess PCTC Program QS separate from that permit. This application is necessary for NMFS to account for processor QS in the PCTC Program. NMFS uses this information to monitor transfers to ensure they do not exceed ownership or use caps for the fishery. NMFS will use the QS price in aggregate during program reviews.

Notification of Intent To Process PCTC Program Pacific cod

The PCTC Program requires cooperatives to set-aside an amount of annual CQ for delivery to an Aleutian Island shoreplant if the City of Adak or the City of Atka files a notification of intent to process PCTC Program Pacific cod that year. The notification of intent to process is necessary for NMFS and the PCTC Program cooperatives to know whether the regulations established for the set-aside will be in effect during the upcoming fishing year. The notification of intent to process PCTC Program Pacific cod is a signed letter or memorandum submitted to NMFS by the representative from either the City of Adak or the City of Atka.

Ninety-Day Transfer Window for Non-Exempt AFA LLP Holders

The Ninety-Day Transfer Window for Non-Exempt AFA LLP Holders form will be removed during this revision. This form was used during the initial implementation of the PCTC Program to allow persons to transfer QS between AFA non-exempt LLP licenses. This form was available during a one-time 90-day transfer window which allowed for contracts and agreements implemented under the AFA Pacific cod sideboard limits to be honored. With the expiration of the one-time window, PCTC Program QS is no longer severable from the LLP license to which it is assigned unless authorized by the transfer rules specified in new § 697.130(f) or modification is supported by an operation of law.

Appeals

The appeals process was made available during the initial implementation of the PCTC Program. A QS holder could file an appeal regarding their initial administrative determination related to their Application for PCTC Program QS. With the removal of the Application for PCTC Program QS, the appeals process for initial QS no longer applies to this information collection.

II. Method of Collection

Information is collected electronically through the NMFS Alaska Region online Fisheries Information System (eFISH), or through email or fax. The transfer applications are available as fillable pdfs on the NMFS Alaska Region website and may be downloaded, completed, and printed out prior to submission.

III. Data

OMB Control Number: 0648-0811.

Form Number(s): None.

Type of Review: Regular submission (extension and revision of a current information collection).

Affected Public: Business or other for-profit organizations.

Estimated Number of Respondents: 67 respondents.

Estimated Time per Response: 1 hours.

Estimated Total Annual Burden Hours: 90 hours.

Estimated Total Annual Cost to Public: $3,370 in recordkeeping and reporting costs.

Respondent's Obligation: Mandatory.

Legal Authority: Magnuson-Stevens Fishery Conservation and Management Act.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this information collection request. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2025-13496 Filed 7-17-25; 8:45 am]

BILLING CODE 3510-22-P